OFFICE OF MANAGEMENT AND BUDGET

Public Availability of Fiscal Year 2014 and Fiscal Year 2015 Agency Inventories Under the Federal Activities Inventory Reform Act

AGENCY: Office of Management and Budget, Executive Office of the President.

ACTION: Notice of public availability of agency inventories of activities that are not inherently governmental and of activities that are inherently governmental.

SUMMARY: The Federal Activities Inventory Reform (FAIR) Act, Public Law 105-270, requires agencies to develop inventories each year of activities performed by their employees that are not inherently governmental functions. The FAIR Act further requires OMB to review the inventories in consultation with the agencies. Once that review is complete, agencies are required to make the list available to the public and OMB must publish a notice of public availability in the Federal Register. In accordance with the FAIR Act, OMB is publishing this notice to announce the availability of inventories for Fiscal Year (FY) 2014 and FY 2015 from the agencies listed below. These inventories identify activities that are not inherently governmental and those activities that are inherently governmental. If an agency has not yet posted its inventory on its Web site, the agency's point of contact should be able to assist.

As provided in the FAIR Act, interested parties who disagree with the agency's initial judgment may challenge the inclusion or the omission of an activity on the list of activities that are not inherently governmental within 30 working days of this Notice and, if not satisfied with this review, may appeal to a higher level within the agency.

Shaun Donovan,
Director.

Attachment: FAIR Act Release FY 2014 and FY 2015
| Agency | Point of contact | Email | Telephone | Web site
Chief Financial Officer (CFO) Act Agencies
1. Department of Commerce | Virna Winters | vwinters@doc.gov | 202-482-3483 | www.commerce.gov.
2. Department of Defense | Sara Streff Warren Champ | Sara.l.Streff.civ@mail.mil Warren.Champ@DODIG.MIL | 571-372-6843 703-699-5418 | www.acq.osd.mil. http://w.dodig.mil.
3. Department of Education | AnMarie Lippert | Anmarie.Lippert@ed.gov | 202-538-5816 | http://www.ed.gov.
4. Department of Energy | Jeff Davis | jeff.davis@hq.doe.gov | 202-287-1877 | http://energy.gov.
5. Department of Health and Human Services | William Kim | William.Kim@hhs.gov | 202-205-1341 | http://www.hhs.gov/.
6. Department of Homeland Security | Kelly Lorick | Kelly.Lorick@hq.dhs.gov | 202-447-0831 | www.dhs.gov.
7. Department of Housing and Urban Development | Richard Robinson | richard.d.robinson@hud.gov | 202-402-3896 | http://portal.hud.gov.
8. Department of the Interior | Samantha Marx | samantha_marx@ios.doi.gov | 202-513-0699 | www.doi.gov.
9. Department of Justice | Neil Ryder | Neil.Ryder@usdoj.gov | 202-616-5499 | http://w.justice.gov/.
10. Department of Labor | Tanisha Bynum-Frazier | bynum.frazier.t@dol.gov | 202-693-4546 | www.dol.gov.
11. Department of State | Barry Thomas | thomasBD2@state.gov | 202-485-7190 | http://www.state.gov.
12. Department of Transportation | Diane Morrison | diane.morrison@dot.gov | 202-366-4960 | www.dot.gov.
13. Department of the Treasury | Jim Sullivan | James.Sullivan@treasury.gov | 202-622-9395 | http://www.treasury.gov/.
14. Department of Veterans Affairs | Julie Plush | Julie.Plush@va.gov | 202-297-2166 | http://www.va.gov.
15. Environmental Protection Agency | Jennifer Cranford | Cranford.Jennifer@epa.gov | 202-564-0798 | www.epa.gov.
16. General Services Administration | James Summers | James.summers@gsa.gov | 202-322-0453 | www.gsa.gov.
17. National Aeronautics and Space Administration | Jeff Cullen | Jeffrey.m.cullen@nasa.gov | 202-358-1463 | http://www.nasa.gov/.
18. National Science Foundation | Kurtis Shank | kshank@nsf.gov | 703-292-2261 | www.nsf.gov.
19. Nuclear Regulatory Commission | Joe Schmidt | Joseph.Schmidt@nrc.gov | 301-287-0938 | www.nrc.gov.
20. Office of Personnel Management | Greg Blaszko | Gregory.Blaszko@opm.gov | 215-861-3051 | http://www.opm.gov/.
21. Small Business Administration | Paul Marshall | Paul.Marshall@sba.gov | 202-205-6240 | www.sba.gov.
22. Social Security Administration | Lauren Morton | Lauren.C.Morton@ssa.gov | 410-966-6127 | www.socialsecurity.gov.
23. United States Agency for International Development | Nancy Sanders | nsanders@usaid.gov | 202-712-4236 | www.usaid.gov.
24. United States Department of Agriculture | Joe Ware | Joe.ware@dm.usda.gov | 202-690-5407 | http://www.usda.gov.
Non-CFO Act Agencies
1. Broadcasting Board of Governors | Chris Luer | cluer@bbg.gov | 202-203-4608 | www.bbg.gov.
2. Commodity Futures Trading Commission | Sonda Owens | sowens@cftc.gov | 202-418-5182 | www.cftc.gov.
3. Consumer Financial Protection Bureau | Roland Jacob | Roland.Jacob@cfpb.gov | 202-435-9625 | www.consumerfinance.gov.
4. Consumer Product Safety Commission | Barbara Denny | bdenny@cpsc.gov | 301-504-7246 | http://www.cpsc.gov.
5. Court Services and Offender Supervision Agency for the District of Columbia | Paul Girardo | Paul.Girardo@csosa.gov | 202-220-5718 | www.csosa.gov.
6. Defense Nuclear Facilities Safety Board | Mark Welch | markw@dnfsb.gov | 202-694-7043 | http://www.dnfsb.gov.
7. Equal Employment Opportunity Commission | Arlethia Munroe | Arlethia.monroe@eeoc.gov | 202-663-4340 | http://www.eeoc.gov.
8. Farm Credit Administration | Veronica McCain | McCainV@fca.gov | 703-883-4031 | www.fca.gov.
9. Federal Communications Commission | Tom Green | Tom.Green@fcc.gov | 202-418-0116 | www.fcc.gov.
10. Federal Election Commission | Gilbert Ford | gford@fec.gov | 202-694-1216 | www.fec.gov.
11. Federal Energy Regulatory Commission | Nicole Yates | Nicole.Yates@ferc.gov | 202-502-6327 | www.ferc.gov.
12. Federal Housing Financing Agency | Bruce Crippin | Bruce.crippin@fhfa.gov | 202-649-3070 | www.fhfa.gov.
13. Federal Labor Relations Authority | Sarah Whittle Spooner | SSpoon@flra.gov | 202-218-7791 | http://www.flra.gov.
14. Federal Maritime Commission | Kathleen Keys | kkeys@fmc.gov | 202-523-5788 | www.fmc.gov.
15. Federal Mediation & Conciliation Service | Paul Voight | pvoight@fmcs.gov | 202-606-5464 | www.fmcs.gov.
16. Federal Retirement Thrift Investment Board | Sandra Byers | Sandra.Byers@tsp.gov | 202-864-8664 | http://www.frtib.gov/.
17. Federal Trade Commission | Michelle Thornton | Mthornton@ftc.gov | 202-393-0301 | http://www.ftc.gov.
18. Holocaust Memorial Museum | Helen Shepherd | hshepherd@ushmm.org | 202-488-0400 x396 | http://www.ushmm.org.
19. International Trade Commission | Debra Bridge | Debra.Bridge@usitc.gov | 202-205-2004 | www.usitc.gov.
20. Merit Systems Protection Board | Kevin Nash | Kevin.Nash@mspb.gov | 202-653-6772 x4407 | www.mspb.gov.
21. National Archives and Records Administration | Susan Ashtianie | susan.ashtianie@nara.gov | 301-837-1490 | www.archives.gov.
22. National Endowment for the Arts | Ned Read | readn@arts.gov | 202-682-5782 | www.arts.gov.
23. National Endowment for the Humanities | Robert Straughter | rstraughter@neh.gov | 202-606-8237 | www.neh.gov.
24. National Labor Relations Board | Marsha Porter | Marsha.Porter@nlrb.gov | 202-273-3726 | http://www.nlrb.gov.
25. National Transportation Safety Board | Lisa Kleiner | Lisa.Kleiner@ntsb.gov | 202-314-6462 | www.ntsb.gov.
26. Office of Management and Budget | Amanda Kepko | akepko@omb.eop.gov | 202-395-4844 | www.whitehouse.gov.
27. Office of Special Counsel | Edward Snyder | esnyder@osc.gov | 202-254-3648 | http://www.osc.gov/.
28. Office of the United States Trade Representative | Deborah Tidwell | Deborah_Tidwell@ustr.eop.gov | 202-395-9410 | https://ustr.gov/.
29. Peace Corps | Amanda Miesionczek | amiesionczek@peacecorps.gov | 202-509-6533 | www.peacecorps.gov.
30. Railroad Retirement Board | Keith Earley | Keith.Earley@rrb.gov | 312-751-4990 | www.rrb.gov.
31. Securities and Exchange Commission | Victoria Stevenson | stevensonv@sec.gov | 202-551-4178 | www.sec.gov.
32. Selective Service System | Jennise Magruder | Jennise.Magruder@sss.gov | 703-605-4024 | www.sss.gov.

[FR Doc. 2016-29433 Filed 12-7-16; 8:45 am]

BILLING CODE P